DEPARTMENT OF COMMERCE

International Trade Administration

North American Free Trade Agreement (NAFTA), Article 1904; Binational Panel Reviews: Correction of Notice of Termination of Panel Review, Published on October 19, 2006, Regarding Certain Softwood Lumber Products From Canada (Secretariat File No. USA-CDA-2002-1904-02)

AGENCY: NAFTA Secretariat, United States Section, International Trade Administration, Department of Commerce.

ACTION: The Notice of Termination of the subject Panel Review should be withdrawn from the Federal Register dated October 19, 2006, respecting Certain Softwood Lumber Products from Canada (Secretariat File No. USA-CDA-2002-1904-02).

Dated: October 19, 2006
Caratina L. Alston,
United States Secretary, NAFTA Secretariat.

[FR Doc. E6-17936 Filed 10-25-06; 8:45 am]

BILLING CODE 3510-GT-P